DEPARTMENT OF COMMERCE

National Oceanic and Atmospheric Administration

[I.D. 091002C]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Seattle, WA.

DATES: The meetings will be held on Monday, September 30 through Tuesday, October 8, 2002. See SUPPLEMENTARY INFORMATION for specific dates and times. All meetings are open to the public except executive sessions.

ADDRESSES: The meetings will be held at the Doubletree Hotel, SeaTac, 18740 Pacific Highway South, Seattle, WA 98188.

Council address: North Pacific Fishery Management Council, 605 W. 4th Ave., Suite 306, Anchorage, AK 99501-2252.

FOR FURTHER INFORMATION CONTACT: Council staff, Phone: 907-271-2809.

SUPPLEMENTARY INFORMATION: The Council's Advisory Panel will begin at 8 a.m., Monday, September 30, and continue through Friday, October 4, 2002. The Scientific and Statistical Committee will begin at 8 a.m. on Monday, September 30, and continue through Wednesday, October 2, 2002.

The Council will begin its plenary session at 8 a.m. on Wednesday, October 2, continuing through Tuesday October 8, 2002.

Council Plenary Session: The agenda for the Council's plenary session will include the following issues. The Council may take appropriate action on any of the issues identified.

1. Report:

(a) Executive Director's Report

(b) NMFS Management Report

(c) Alaska Department of Fish & Game (ADF&G) Management Report

(d) Coast Guard Report

(e) Report from independent legal review team

(f) Report from Vessel Monitoring System (VMS) Committee

2. Crab Rationalization: Provide clarification on aspects of June 2002 motion. Receive three Committee reports. Initial review of trailing amendments. Receive update on Crab Environmental Impact Statement (EIS) progress and Congressional actions. Review and provide information on new proposals. Crab Plan Team and Pacific Northwest Crab Industry Advisory Committee reports.

3. Steller Sea Lion (SSL) management measures: Receive update on litigation, final action on two trailing amendments. Final action on Cape Sarichef closure.

4. Draft Programmatic Supplemental Environmental Impact Statement (DPSEIS): Receive status report.

5. Improved Retention and Improved Utilization (IR/IU): Receive report from IR/IU Technical Committee. Final action on amendment package for flatfish requirements. Provide direction on trailing amendments.

6. Essential Fish Habitat (EFH): Receive Committee report, identify final alternatives for analysis.

7. Gulf of Alaska (GOA) Groundfish Rationalization: Review scoping paper and receive update on scoping meetings. Receive Committee report and provide direction as necessary.

8. Community Development Quota (CDQ) Program: Review and comment on the State's proposed CDQ allocations.

9. Observer Program: Review Committee report and provide direction as necessary.

10. American Fisheries Act (AFA): Initial review of Pacific cod sideboard package. Final action on single geographic location amendment.

11. Halibut Management: Review implementation issues and data issues related to Charterboat Guideline Harvest Levels (GHL) and Individual Fishing Quotas (IFQ) programs and proceed as appropriate. Review discussion paper on implementation issues RE: April 2002 proposed subsistence amendments (including community harvest permits). Request from Akutan for inclusion in GOA IFQ community purchase program.

12. Groundfish Issues: Report from F40 independent review team. Final action on total allowable catch (TAC) setting process (Amendment 48/48). Review 2002 draft GOA and Bering Sea and Aleutian Islands (BSAI) Stock Assessment Fishery Evaluation (SAFE) report and recommend proposed and interim groundfish specifications. Review 'other species' breakout and associated issues. Set Vessel Incentive Program (VIP) rates for first half of 2003.

13. Other Business: Approve Scientific and Statistical Committee (SSC) replacement for Dr. Al Tyler. Approve appointment to GOA Groundfish Plan Team. Discuss joint meeting with Board of Fish in 2003. Clarification of Council intent on Amendment 67. North Pacific Research Board update on research priorities.

14. Staff Tasking: Review tasking and provide direction as appropriate (includes discussion of fixed gear cod allocations, and review information and determine workplan for differential gear impact analysis)

Scientific and Statistical Committee: The SSC agenda will include the following issues:

(a) Groundfish Issues

(b) Initial review of Crab trailing Amendments, Crab Plan Team report (C-1(c & f)) on Council agenda)

(c) Charterboat GHL/IFQ program (C-10(a) on Council agenda)

(d) EFH

(e) DPSEIS

(f) Observer Program

(g) American Fisheries Act

(h) IR/IU

(i) SSL interaction measures (C-2(c) on Council Agenda)

(j) Approve appointment to Groundfish Plan Team and North Pacific Research Board update on Research Priorities (D-2 b & e) on Council Agenda)

Advisory Panel: The Advisory Panel will address the same agenda issues as the Council, with the exception of the Reports under Item #1 of the Council agenda.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at 907-271-2809 at least 7 working days prior to the meeting date.

Dated: September 10, 2002.
Richard W. Surdi,
Acting Director, Office of Sustainable Fisheries, National Marine Fisheries Service.

[FR Doc. 02-23502 Filed 9-13-02; 8:45 am]

BILLING CODE 3510-22-S